DEPARTMENT OF JUSTICE

Notice of Lodging of Consent Decree Pursuant To the Comprehensive Environmental Response Compensation and Liability Act

Notice is hereby given that a proposed consent decree in United States v. Delavan, Inc., Civil Action No. 07-331, was lodged on July 25, 2007 with the United States District Court of the Southern District of Iowa. The United States filed this action pursuant to the Comprehensive Environmental Response, Compensation and Liability Act seeking clean up of groundwater contamination and recovery of costs incurred at the Southern Plume of the Railroad Avenue Site in West Des Moines, Iowa.

The Consent Decree resolves the United States' claims by requiring the defendant Delavan, Inc. to perform the clean up, at a cost of approximately $500,000 and to reimburse the United States for its future costs.

The Department of Justice will receive, for a period of thirty (30) days from the date of this publication, comments relating to the proposed consent decree. Comments should be address to the Assistant Attorney General, Environment and Natural Resources Division, and either e-mailed to pubcomment-ees.enrd@usdoj.gov or mailed to P.O. Box 7611, U.S. Department of Justice, Washington, DC 20044-7611, and should refer to United States v. Delavan, Inc., DOJ Ref. #90-11-2-09081.

The proposed consent decree may be examined at the office of the United States Attorney, U.S. Courthouse Annex, Suite #286, 110 East Court Avenue, Des Moines, Iowa 50309-2053, and at the Region VII Office of the Environmental Protection Agency, 901 N. 5th Street, Kansas City, KS 66101. During the public comment period, the proposed consent decree may also be examined on the Department of Justice Web site, at http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $32.65 (or $11.00, for a copy that omits the exhibits and signature pages) (25 cents per page reproduction cost) payable to the U.S. Treasury or, if by e-mail or fax, forward a check in that amount to the Consent Decree Library at the stated address.

W. Benjamin Fisherow,
Deputy Chief, Environmental Enforcement Section, Environment and Natural Resources Division.

[FR Doc. 07-3750 Filed 7-31-07; 8:45 am]

BILLING CODE 4410-15-M